DEPARTMENT OF VETERANS AFFAIRS

38 CFR Parts 1 and 2

RIN 2900-AH98

Release of Information From Department of Veterans Affairs Records

AGENCY: Department of Veterans Affairs.

ACTION: Withdrawal of proposed rule.

SUMMARY: This document withdraws a Department of Veterans Affairs (VA) proposed rule, published in the Federal Register on September 10, 1998 (63 FR 48455). This action is necessary to further amend the proposed rule in view of recent changes in the law. The VA intends to rewrite its privacy rules in accordance with these changes and republish a proposed rule for notice and comment.

DATES: This proposed rule is withdrawn on September 18, 2003.

FOR FURTHER INFORMATION CONTACT: Lorrie Johnson, Deputy Assistant General Counsel (024A), Office of General Counsel, Department of Veterans Affairs, 810 Vermont Avenue, NW., Washington, DC 20420, telephone number (202) 273-6358. This is not a toll-free number.

SUPPLEMENTARY INFORMATION: In a proposed rule published in the Federal Register on September 10, 1998 (63 FR 48455), the Department of Veterans Affairs (VA) proposed to amend its regulations governing the confidentiality and release of VA records subject to the Privacy Act, 5 U.S.C. 552a, the Freedom of Information Act (FOIA) (including the Electronic Freedom of Information Act Amendments of 1996, Pub. L. 104-231), 5 U.S.C. 552, and the veterans' records confidentiality statute (section 5701), 38 U.S.C. 5701.

Recent changes in the law necessitate further revision of those regulations. In 1996, section 264(c)(1) of the Health Insurance Portability and Accountability Act (HIPAA) tasked the Department of Health and Human Services (HHS) with promulgating standards to protect the privacy of individually identifiable health information as defined in 42 U.S.C. 1320d(6). Pub. L. 104-191, Title II, Subtitle F (sections 261-64) (1996). HHS promulgated the standards, with subsequent amendments, in regulations located at 45 CFR parts 160 and 164, commonly referred to as the Privacy Rule. 65 FR 82462-82829 (2000), as amended by 67 FR 533182-273 (2002). The HIPAA Privacy Rule prescribes how covered entities may use and disclose certain individually identifiable health information. The Veterans Health Administration is a covered entity subject to the Privacy Rule.

Accordingly, VA should amend its records confidentiality and release regulations to be consistent with the HIPAA Privacy Rule. Thus, VA is withdrawing the proposed regulations at this time. When the regulations have been rewritten to be consistent with the HIPAA Privacy Rule, VA will republish them for notice and comment.

Approved: June 25, 2003.
Anthony J. Principi,
Secretary of Veterans Affairs.

[FR Doc. 03-23626 Filed 9-17-03; 8:45 am]

BILLING CODE 8320-01-P